DEPARTMENT OF ENERGY

Federal Energy Regulatory Commission

[Docket No. ER00-2365-001, et al.]

Ameren Service Company, et al.; Electric Rate and Corporate Regulation Filings

May 24, 2000.

Take notice that the following filings have been made with the Commission:

1. Ameren Service Company

[Docket No. ER00-2365-001]

Take notice that on May 19, 2000, Ameren Services Company (Ameren), tendered for filing a substitute revised unexecuted Network Integration Transmission Service Agreement (revised Agreement) with Clay Electric Cooperative, Inc. (Clay) under Ameren's Open Access Transmission Tariff. This revised Agreement is intended as a substitute for the document filed in the above-captioned proceeding on May 1, 2000. Ameren states that it has corrected a misstated rate in the document in Paragraph 7.0 and that this correction is the only change in the document.

Ameren continues to seek an effective date of June 1, 2000.

Copies of the filing have been served on Clay and the Illinois Commerce Commission.

Comment date: June 9, 2000, in accordance with Standard Paragraph E at the end of this notice.

2. Western Resources, Inc.

[Docket Nos. ER00-2501-001 and ER00-2502-001]

Take notice that on May 19, 2000, Western Resources, Inc. (Western), tendered for filing corrected Service Schedule WTU-5/2000, which will supercede Service Schedule WTU-3/94. Service Schedule WTU-5/2000, as corrected, substitutes for Service Schedule WTU-6/2000 previously filed in Docket No. ER00-2502-000, but not yet accepted by the Commission and is proposed to be effective as of May 1, 2000.

In addition, Western requests an effective date of May 1, 2000, for the related contract amendments filed in Docket No. ER00-2501-000.

A copy of this filing was served upon the Kansas Corporation Commission and the wholesale customers who take service under the aforementioned Service Schedule.

Comment date: June 9, 2000, in accordance with Standard Paragraph E at the end of this notice.

3. Commonwealth Edison Company

[Docket No. ER00-2531-000]

Take notice that on May 19, 2000, Commonwealth Edison Company, tendered for filing an executed signature page inadvertently omitted from its May 17, 2000, filing made with the Commission in the above-referenced docket.

Comment date: June 9, 2000, in accordance with Standard Paragraph E at the end of this notice.

4. MidAmerican Energy Company

[Docket No. ER00-2544-000]

Take notice that on May 19, 2000, MidAmerican Energy Company (MidAmerican), 666 Grand Avenue, Des Moines, Iowa 50309, filed with the Commission a Firm Transmission Service Agreement with Sempra Energy Trading Corporation, dated May 11, 2000, and a Non-Firm Transmission Service Agreement with Sempra Energy, dated May 11, 2000, entered into pursuant to MidAmerican's Open Access Transmission Tariff.

MidAmerican requests an effective date of May 11, 2000, for the Agreements with Sempra Energy, and accordingly seeks a waiver of the Commission's notice requirement.

MidAmerican has served a copy of the filing on Sempra Energy, the Iowa Utilities Board, the Illinois Commerce Commission and the South Dakota Public Utilities Commission.

Comment date: June 9, 2000, in accordance with Standard Paragraph E at the end of this notice.

5. MidAmerican Energy Company

[Docket No. ER00-2545-000]

Take notice that on May 19, 2000, MidAmerican Energy Company (MidAmerican), 666 Grand Avenue, Des Moines, Iowa 50309, tendered for filing with the Commission a Firm Transmission Service Agreement with Cargill-Alliant, LLC, dated April 25, 2000, and a Non-Firm Transmission Service Agreement with Cargill-Alliant, dated April 25, 2000, entered into pursuant to MidAmerican's Open Access Transmission Tariff.

MidAmerican requests an effective date of April 25, 2000, for the Agreements with Cargill-Alliant, and accordingly seeks a waiver of the Commission's notice requirement.

MidAmerican has served a copy of the filing on Cargill-Alliant, the Iowa Utilities Board, the Illinois Commerce Commission and the South Dakota Public Utilities Commission.

Comment date: June 9, 2000, in accordance with Standard Paragraph E at the end of this notice.

6. Allegheny Energy Service Corporation, on behalf of Allegheny Energy Supply Company, LLC

[Docket No. ER00-2546-000]

Take notice that on May 19, 2000, Allegheny Energy Service Corporation on behalf of Allegheny Energy Supply Company, LLC (Allegheny Energy Supply) tendered for filing Amendment No. 2 to Supplement No. 11 to the Market Rate Tariff to incorporate a Netting Agreement with PG&E Energy Trading-Power, L.P., into the tariff provisions.

Allegheny Energy Supply requests a waiver of notice requirements to make the Amendment effective as of May 4, 2000 or such other date as ordered by the Commission.

Copies of the filing have been provided to the Public Utilities Commission of Ohio, the Pennsylvania Public Utility Commission, the Maryland Public Service Commission, the Virginia State Corporation Commission, the West Virginia Public Service Commission, and all parties of record.

Comment date: June 9, 2000, in accordance with Standard Paragraph E at the end of this notice.

7. Southern Company Services, Inc.

[Docket No. ER00-2547-000]

Take notice that on May 19, 2000, Southern Company Services, Inc., as agent for Alabama Power Company, Georgia Power Company, Gulf Power Company, Mississippi Power Company, and Savannah Electric and Power Company (Southern Companies) tendered for filing the Generator Backup Service Agreement by and between West Georgia Generating Company L.P. (West Georgia) and Southern Companies (the Service Agreement) under Southern Companies' Generator Backup Service Tariff (FERC Electric Tariff, Original Volume No. 9). The Service Agreement supplies West Georgia with unscheduled capacity and energy in connection with sales from its electric generating facility as a replacement for unintentional differences between the facility's actual metered generation and its scheduled generation. The Service Agreement is dated as of May 11, 2000, and shall terminate upon twelve months prior written notice of either party.

Comment date: June 9, 2000, in accordance with Standard Paragraph E at the end of this notice.

8. Arizona Public Service Company

[Docket No. ER00-2548-000]

Take notice that on May 19, 2000, Arizona Public Service Company (APS), tendered for filing amendments to the Four Corners Co-tenancy Agreement and the Four Corners Operating Agreement.

A copy of this filing has been served on El Paso Electric Company, Public Service Company of New Mexico, Salt River Project Agricultural Improvement and Power District, Southern California Edison Company, Tucson Electric Power Company, the Arizona Corporation Commission, the California Public Utilities Commission, the Texas Public Utilities Commission and the New Mexico Public Service Commission.

Comment date: June 9, 2000, in accordance with Standard Paragraph E at the end of this notice.

9. Commonwealth Edison Company

[Docket No. ER00-2549-000]

Take notice that on May 19, 2000, Commonwealth Edison Company (ComEd) tendered for filing executed service agreements for Nicor Energy L.L.C. (Nicor) and Dynegy Energy Services, Inc. (Dynegy) under ComEd's FERC Electric Market Based-Rate Schedule for power sales.

ComEd requests an effective date of May 16, 2000 for the service agreements and accordingly seeks waiver of the Commission's notice requirements.

Copies of this filing were served on Nicor and Dynegy.

Comment date: June 9, 2000, in accordance with Standard Paragraph E at the end of this notice.

10. Columbia Energy Power Marketing Corporation

[Docket No. ER00-2550-000]

Take notice that on May 19, 2000, Columbia Energy Power Marketing Corporation tendered for filing an amendment to its rate schedule to prohibit sales under the rate schedule to affiliates with franchised retail electric service territories.

Comment date: June 9, 2000, in accordance with Standard Paragraph E at the end of this notice.

11. Detroit Edison Company

[Docket No. ER00-2551-000]

Take notice that on May 19, 2000, Detroit Edison Company tendered for filing a Temporary Parallel Operation Interconnection Agreement between Detroit Edison Company and Dearborn Industrial Generation, L.L.C.

Comment date: June 9, 2000, in accordance with Standard Paragraph E at the end of this notice.

12. PJM Interconnection, L.L.C.

[Docket No. ER00-2552-000]

Take notice that on May 19, 2000, PJM Interconnection, L.L.C. (PJM), tendered for filing a firm point-to-point transmission service agreement with Delmarva Power & Light Company, and a network integration transmission service agreement with UGI Utilities, Inc., under the PJM Open Access Transmission Tariff.

Copies of this filing were served upon the parties to the service agreements and the state commissions within the PJM control area.

Comment date: June 9, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.,
Acting Secretary.

[FR Doc. 00-13667 Filed 5-31-00; 8:45 am]

BILLING CODE 6717-01-P